DEPARTMENT OF AGRICULTURE

Natural Resources Conservation Service

East Locust Creek Watershed, Sullivan County, MO

AGENCY: Natural Resources Conservation Service, USDA.

ACTION: Notice of availability of record of decision.

SUMMARY: Roger A. Hansen, responsible Federal official for projects administered under the provisions of Public Law 83-566, 16 U.S.C. 1001-1008, in the State of Missouri, is hereby providing notification that a record of decision to proceed with the installation of the East Locust Creek Watershed Revised Plan is available. Single copies of this record of decision may be obtained from Roger A. Hansen at the address shown below.

FOR FURTHER INFORMATION CONTACT: Roger A. Hansen, State Conservationist, Natural Resources Conservation Service, 601 Business Loop 70 West, Parkade Center, Suite 250, Columbia, Missouri, 65203, (573) 876-0901.

SUPPLEMENTARY INFORMATION: The project purposes are to provide a reservoir capable of producing 7.0 million gallons of raw water per day for the residents and communities of north central Missouri; water-based recreational opportunities; and flood reduction of the floodplains of East Locust Creek, Little East Locust Creek, and the common floodplain area of Locust Creek. The planned works of improvement include: One multiple-purpose reservoir; a water intake structure; a raw water line; 22 small floodwater retarding structures; seven modified existing small floodwater retarding structures; five small sediment/debris basins; and recreational facilities.

No administrative action on implementation of the proposal will be taken until 30 days after the date of this publication in the Federal Register.

Dated: September 14, 2006.
Roger A. Hansen,
State Conservationist.

(This activity is listed in the Catalog of Federal Domestic Assistance under No. 10.904, Watershed Protection and Flood Prevention, and is subject to the provisions of Executive Order 12372, which requires intergovernmental consultation with State and local officials.)

[FR Doc. E6-15777 Filed 9-26-06; 8:45 am]

BILLING CODE 3410-16-P